DEPARTMENT OF STATE

[Public Notice 7485]

Bureau of International Security and Nonproliferation; Imposition of Nonproliferation Measures Against Foreign Persons, Including a Ban on U.S. Government Procurement

AGENCY: Department of State.

ACTION: Notice.

SUMMARY: A determination has been made that a number of foreign entities and one foreign person have engaged in activities that warrant the imposition of measures pursuant to Section 3 of the Iran, North Korea, and Syria Nonproliferation Act. The Act provides for penalties on entities and individuals for the transfer to or acquisition from Iran since January 1, 1999, the transfer to or acquisition from Syria since January 1, 2005, or the transfer to or acquisition from North Korea since January 1, 2006, of equipment and technology controlled under multilateral control lists (Missile Technology Control Regime, Australia Group, Chemical Weapons Convention, Nuclear Suppliers Group, Wassenaar Arrangement) or otherwise having the potential to make a material contribution to the development of weapons of mass destruction (WMD) or cruise or ballistic missile systems. The latter category includes (a) Items of the same kind as those on multilateral lists but falling below the control list parameters, when it is determined that such items have the potential of making a material contribution to WMD or cruise or ballistic missile systems, (b) other items with the potential of making such a material contribution, when added through case-by-case decisions, and (c) items on U.S. national control lists for WMD/missile reasons that are not on multilateral lists.

DATES: Effective Date: May 23, 2011.

FOR FURTHER INFORMATION CONTACT: On general issues: Pamela K. Durham, Bureau of International Security and Nonproliferation, Department of State, Telephone (202) 647-4930. For U.S. Government procurement ban issues: Kimberly Triplett, Office of the Procurement Executive, Department of State, Telephone: (703) 875-4079.

SUPPLEMENTARY INFORMATION: Pursuant to Sections 2 and 3 of the Iran, North Korea, and Syria Nonproliferation Act (Pub. L. 109-353), the U.S. Government determined on May 12, 2011, that the measures authorized in Section 3 of the Act shall apply to the following foreign persons identified in the report submitted pursuant to Section 2(a) of the Act:

Belarusian Optical Mechanical Association (Belarus) and any successor, sub-unit, or subsidiary thereof;

BelTechExport (Belarus) and any successor, sub-unit, or subsidiary thereof;

Dalian Sunny Industries (China) [also known as: LIMMT (Dalian) Metallurgy and Minerals Co.; LIMMT (Dalian) Economic and Trade Organization; Liaoning Industry & Trade Co., Ltd.; and Dalian Industry and Trade Company Ltd.] and any successor, sub-unit, or subsidiary thereof;

Dalian Zhongbang Chemical Industries Company (China) and any successor, sub-unit, or subsidiary thereof;

Karl Lee (China) [also known as: Li Fang Wei] and any successor, sub-unit, or subsidiary thereof;

Xian Junyun Electronic (China) and any successor, sub-unit, or subsidiary thereof;

Defense Industries Organization (Iran) and any successor, sub-unit, or subsidiary thereof;

Islamic Republic of Iran Shipping Lines (IRISL) (Iran) and any successor, sub-unit, or subsidiary thereof;

Islamic Revolutionary Guard Corps Qods Force (IRGC QF) (Iran) and any successor, sub-unit, or subsidiary thereof;

Milad Jafari (Iran) and any successor, sub-unit, or subsidiary thereof;

SAD Import-Export Company (Iran) and any successor, sub-unit, or subsidiary thereof;

Shahid Bakeri Industries Group (SBIG) (Iran) and any successor, sub-unit, or subsidiary thereof;

Tangun Trading (North Korea) and any successor, sub-unit, or subsidiary thereof;

Industrial Establishment of Defense (Syria) and any successor, sub-unit, or subsidiary thereof;

Scientific Studies and Research Center (SSRC) (Syria) and any successor, sub-unit, or subsidiary thereof;

Venezuela Military Industries Company (CAVIM) (Venezuela) and any successor, sub-unit, or subsidiary thereof;

Accordingly, pursuant to the provisions of the Act, the following measures are imposed on these entities:

1. No department or agency of the United States Government may procure, or enter into any contract for the procurement of any goods, technology, or services from these foreign persons, except to the extent that the Secretary of State otherwise may have determined;

2. No department or agency of the United States Government may provide any assistance to the foreign persons, and these persons shall not be eligible to participate in any assistance program of the United States Government, except to the extent that the Secretary of State otherwise may have determined;

3. No United States Government sales to the foreign persons of any item on the United States Munitions List are permitted, and all sales to these persons of any defense articles, defense services, or design and construction services under the Arms Export Control Act are terminated; and

4. No new individual licenses shall be granted for the transfer to these foreign persons of items the export of which is controlled under the Export Administration Act of 1979 of the Export Administration Regulations, and any existing such licenses are suspended.

These measures shall be implemented by the responsible departments and agencies of the United States Government and will remain in place for two years from the effective date, except to the extent that the Secretary of State may subsequently determine otherwise. A new determination will be made in the event that circumstances change in such a manner as to warrant a change in the duration of sanctions.

Dated: May 24, 2011.
C.S. Eliot Kang,
Acting Assistant Secretary of State for International Security and Nonproliferation.

[FR Doc. 2011-13255 Filed 5-26-11; 8:45 am]

BILLING CODE 4710-27-P